DEPARTMENT OF COMMERCE

National Technical Information Service

National Technical Information Service Advisory Board

AGENCY: National Technical Information Service, Commerce.

ACTION: Notice of open meeting.

SUMMARY: This notice announces the next meeting of the National Technical Information Service (NTIS) Advisory Board which advises the Secretary of Commerce, the Under Secretary of Commerce of Technology and the Director of NTIS on NTIS's mission, general policies, and fee structure.

DATES: The NTIS Advisory Board will meet on Wednesday, October 18, 2006 at 9 a.m. to approximately 4:30 p.m.

ADDRESSES: The NTIS Advisory Board meeting will be held in Room 2029, National Technical Information Service, 5285 Port Royal Road, Springfield, Virginia.

FOR FURTHER INFORMATION CONTACT: Mr. Walter L. Finch (703) 605-6507 or WFinch@nitis.gov; Mr. Steven Needle (703) 605-6404 or SNeedle@ntis.gov; or Ms. Pat Moton (703) 605-6103 or PMoton@ntis.gov. These are not toll-free numbers. Alternatively, each can be reached by writing to them at National Technical Information Service, 5285 Port Royal Road, Springfield, Virginia 22161.

SUPPLEMENTARY INFORMATION: The NTIS Advisory Board is established by Section 3704b(c) of Title 15 of the United States Code. Its charter has been filed in accordance with the requirements of the Federal Advisory Committee Act (5 U.S.C. App.).

All members of the Advisory Board have recently been appointed. The main purpose of the meeting is to familiarize them with NTIS's operations and to explore areas where the members' expertise can be of most use. Most interaction will be between the members and NTIS staff. Although subject to change, the itinerary will include (1) a welcoming statement; (2) introduction of members; (3) a discussion of the NTIS's purpose, goals and charter; (4) an Executive overview; (5) lunch; (6) introduction of senior staff; (7) a review of strategic planning documents; and (8) general discussion. If time permits, the public will have an opportunity to address the Advisory Board. Persons wishing to address the Advisory Board should contact the individuals specified not later than October 11, 2006 and bring five written copies of any statement for the convenience of the members. A summary of the meeting will be posted at the NTIS Web site http://www.ntis.gov.

Because the meeting will take place in a secured facility, persons wishing to attend should contact any of the individuals specified by October 16, 2006 to arrange for admittance.

Dated: October 4, 2006.
Ellen Herbst,
Director.

[FR Doc. 06-8566 Filed 10-6-06; 8:45 am]

BILLING CODE 3510-04-M